DEPARTMENT OF COMMERCE

Submission for OMB Review; Comment Request

The Department of Commerce has submitted to the Office of Management and Budget (OMB) for clearance of the following proposal for collection of information under the provisions of the Paperwork Reduction Act (44 U.S.C. Chapter 35).

Agency: National Oceanic and Atmospheric Administration (NOAA).

Title: Pacific Islands Region Coral Reef Ecosystems Logbook and Reporting.

Form Number(s): None.

OMB Approval Number: 0648-0462.

Type of Request: Regular submission.

Burden Hours: 382.

Number of Respondents: 5.

Average Hours Per Response: At-sea notifications, 3 minutes; logbook reports, 30 minutes; and transshipment reports, 15 minutes.

Needs and Uses: Logbooks are required for U.S. fishing vessels registered for use (or any U.S. citizen issued) with a Special Coral Reef Ecosystem Fishing Permit authorized under the Fishery Management Plan for Coral Reef Ecosystems of the Western Pacific Region. The information in the mandatory logbooks are used to obtain fish catch/fishing effort data on coral reef management species harvested in designated low-use marine protected areas and on potentially-harvested coral reef management species in certain waters of the U.S. exclusive economic zone in the western Pacific region. These data are needed to determine the condition of the stocks and whether the current management measures are having the intended effects, to evaluate the benefits and costs of changes in management measures, and to monitor and respond to incidental takes of endangered and threatened marine animals.

Affected Public: Business or other for-profit organizations; individuals or households.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 2, 2005.
Gwellnar Banks,
Management Analyst, Office of the Chief Information Officer.

[FR Doc. 05-22183 Filed 11-7-05; 8:45 am]

BILLING CODE 3510-22-P